OFFICE OF MANAGEMENT AND BUDGET

Agency Information Collection Activities: Proposed Collection; Generic Clearance for the Collection of Qualitative Feedback on Agency Service Delivery; Correction

AGENCY: Office of Management and Budget (OMB).

ACTION: Correction.

SUMMARY: This document corrects errors that appeared in the Federal Register on December 22, 2010, entitled “Agency Information Collection Activities: Proposed Collection; Comment Request; Generic Clearance for the Collection of Qualitative Feedback on Agency Service Delivery.”

FOR FURTHER INFORMATION CONTACT: ServiceDeliveryComments@omb.eop.gov.

SUPPLEMENTARY INFORMATION: In notice document 2010-002 on page 80542 in the issue of Wednesday, December 22, 2010, make the following correction:

On page 80542, in the third column, beginning with “The following agencies are planning to submit this collection to OMB for approval * * * ,” the following agencies shall be included: General Services Administration, National Science Foundation, Nuclear Regulatory Commission, Office of Personnel Management, Small Business Administration, and U.S. Agency for International Development. Due to an oversight, those agencies were inadvertently omitted. All Chief Financial Officers Act agencies should have been included in the joint notice.

Shelley Metzenbaum,
Associate Director for Performance and Personnel Management.

[FR Doc. 2011-3819 Filed 2-18-11; 8:45 am]

BILLING CODE 3110-01-P